DEPARTMENT OF DEFENSE

Department of the Navy

Notice of Intent To Grant Exclusive Patent License; BTG International, Inc.

AGENCY: Department of the Navy, DOD.

ACTION: Notice.

SUMMARY: The Department of the Navy hereby gives notice of its intent to grant to BTG International, Inc. a revocable, nonassignable, exclusive license in the United States, to practice the Government-owned inventions described in U.S. Patent No. 5,435,264 entitled “Process for Forming Epitaxial BaF2 on GaAs”, Navy Case No. 76233, and U.S. Patent No. 5,690,737 entitled “Growth of BaF2 Thin Films on Silicon and GaAs Substrates with Chemical Vapor Deposition”, Navy Case No. 76470, and U.S. Patent Application Serial No. 09/563,740 entitled “Electronic Devices with Diffusion Barrier and Process for Making Same”, filing date: May 3, 2000, Navy Case No. 82111.

DATES: Anyone wishing to object to the granting of this license has (15) days from the date of this notice to file written objections along with supporting evidence, if any.

ADDRESSES: Written objections are to be filed with the Technology Transfer Office, Naval Surface Warfare Center Dahlgren Div, Code B04, 17320 Dahlgren Rd, Dahlgren, VA 22448-5100.

FOR FURTHER INFORMATION CONTACT: Mr. Ramsey D. Johnson, Technology Transfer Manager, Code B04, Naval Surface Warfare Center Dahlgren Div, 17320 Dahlgren Rd, Dahlgren, VA 22448-5100, telephone (540) 653-2680, E-Mail Johnsonrd2@nswc.navy.mil or fax (540) 653-2687.

(Authority: 35 U.S.C. 207, 37 CFR Part 404.)

Dated: July 10, 2002.
R.E. Vincent II,
Lieutenant Commander, Judge Advocate General's Corps, U.S. Navy, Federal Register Liaison Officer.

[FR Doc. 02-17951 Filed 7-16-02; 8:45 am]

BILLING CODE 3810-FF-P